DEPARTMENT OF AGRICULTURE

Grain Inspection, Packers and Stockyards Administration

7 CFR Part 868

RIN 0580-AA84

Fees for Processed Commodity Analytical Services

AGENCY: Grain Inspection, Packers and Stockyards Administration, USDA.

ACTION: Final rule.

SUMMARY: The Federal Grain Inspection Service (FGIS), a program of the Grain Inspection, Packers and Stockyards Administration (GIPSA), is increasing the fees for processed commodity analytical services performed under the Agricultural Marketing Act (AMA) of 1946 and removing certain tests from the fee schedule. These changes are needed to cover rising fixed costs and increased operational costs resulting from the mandated January 2003 Federal pay increase. GIPSA anticipates that this increase in user fees will generate approximately $135,000 in additional yearly revenue.

EFFECTIVE DATE: February 12, 2004.

FOR FURTHER INFORMATION CONTACT: Steven Tanner, Director, Technical Services Division, at his e-mail address: Steven.N.Tanner@usda.gov or telephone him at (816) 891-0401.

SUPPLEMENTARY INFORMATION:

Executive Order 12866, Regulatory Flexibility Act, and the Paperwork Reduction Act

This rule has been determined to be nonsignificant for the purpose of Executive Order 12866 and, therefore, has not been reviewed by the Office of Management and Budget (OMB).

Also, pursuant to the requirements set forth in the Regulatory Flexibility Act, Donna Reifschneider, Administrator, GIPSA, has determined that this final rule will not have a significant economic impact on a substantial number of small entities as defined in the Regulatory Flexibility Act (5 U.S.C. 601 et seq.).

GIPSA regularly reviews its user-fee-financed programs to determine if the fees are adequate. Additionally, GIPSA has and will continue to seek out cost saving opportunities and implement appropriate changes to reduce costs. Such actions can provide alternatives to new or increased fees. However, even with these efforts, GIPSA has determined that its existing fee schedule will not generate sufficient revenues to cover program costs for providing processed commodity testing services. Further revenue losses are projected if adjustments to the existing fee schedule are not made. In Fiscal Year (FY) 2002, GIPSA's operating costs for the processed commodity testing program were $233,707 with revenue of $104,380 that resulted in a negative margin of $129,327.

GIPSA has reviewed the financial position of the processed commodity testing program and concluded that $135,000 in additional yearly revenue is needed to fully recover operating costs. This is based on projected program costs of approximately of $240,000 a year and an estimated testing workload of approximately 1,700 samples per year. These revisions are designed to generate revenue sufficient to cover, as nearly as practicable, operational costs resulting from a steep decline in requests for services and the associated loss of revenue and increased operational costs resulting from the mandated 4.1 percent January 2003 Federal pay increase. In FY 1999, the number of samples tested was 16,377, which generated $1,475,579 in revenue; in FY 2000, 12,872 samples were tested, with revenue of $1,212,215; in FY 2001, 3,620 samples were tested, with revenue of $219,033; and in FY 2002, 1755 samples were tested, with revenue of $104,380. The changes to the fee schedule will increase the fees charged to businesses for voluntary processed commodity analytical services and generate approximately $135,000 in additional revenue. Some of these businesses, which consist of processors and shippers of products, such as wheat flour, vegetable oil, and corn meal, may meet the criteria for small entities established by the Small Business Administration criteria for small businesses. Even so, the new fees are not excessive and should not significantly affect those entities. It is estimated that there will be nine entities affected. Further, those entities are under no obligation to use GIPSA services and, therefore, any decision on their part to discontinue the use of this service should not prevent them from marketing their products. Due to the decline in demand of the processed commodity analytical testing services, GIPSA will conduct another analysis of the demand for this program's services, including all costs and revenues generated specific to the program, one year after operating under the new fee schedule.

There will be no additional reporting or record keeping requirements imposed by this action. In accordance with the Paperwork Reduction Act of 1995 (44 U.S.C. 35), the information collection and record keeping requirements in part 800 have been previously approved by OMB under control number 0580-0013. GIPSA has not identified any other Federal rules which may duplicate, overlap, or conflict with this rule.

Executive Order 12988

This final rule has been reviewed under Executive Order 12988, Civil Justice Reform. It is not intended to have a retroactive effect. This action will not preempt any State or local laws, regulations, or policies, unless they present an irreconcilable conflict with this rule. There are no administrative procedures that must be exhausted prior to any judicial challenge to the provisions of this rule.

Background

On July 18, 2003, GIPSA proposed in the Federal Register (68 FR 42644) to increase fees for processed commodity analytical services performed under the AMA and remove certain tests from the fee schedule. Under the provisions of the AMA (7 U.S.C. 1621, et seq.), GIPSA provides official processed commodity testing services upon request and collects reasonable fees from the customers for performing these services. Section 203(h) of the AMA (7 U.S.C. 1622(h)) provides for the establishment and collection of fees that are reasonable and, as nearly as practicable, cover the costs of the services rendered. These fees cover the GIPSA administrative and supervisory costs for the performance of official testing services, including personnel compensation and benefits, travel, rent, communication, utilities, contractual services, supplies, and equipment.

The processed commodity testing services fees were last amended on April 4, 2001, and became effective May 4, 2001 (66 FR 17775). These fees were to cover, as nearly as practicable, the level of operating costs as projected for FY 2001 and FY 2002, respectively. GIPSA continually monitors its cost, revenue, and operating reserve levels to ensure that there are sufficient resources for operations. Further, GIPSA has implemented cost-saving measures in the processed commodity program in an effort to provide more cost-effective services. The cost containment measures included a reduction in full-time commodity testing laboratory personnel and increased cross utilization of personnel from other GIPSA programs.

GIPSA regularly reviews its user-fee-financed programs to determine if the fees are adequate and continues to seek out cost saving opportunities and implement appropriate changes to reduce costs. Such actions can provide alternatives to fee increases. However, even with these efforts, GIPSA's previous fee schedule did not generate sufficient revenues to cover program costs. Using the most recent data available, GIPSA's FY 2002 operating costs for this program were $233,707 with revenue of $104,380 that resulted in a negative margin of $129,327.

GIPSA has reviewed the financial position of its processed commodity testing program. Based on this review, GIPSA has concluded that it needs to generate $135,000 in additional yearly revenue to recover program costs.

Comment Review

GIPSA did not receive any comments in response to the proposed rulemaking published on July 18, 2003, at 68 FR 42644.

Final Action

Section 203(h) of the AMA (7 U.S.C. 1622(h)) provides for the establishment and collection of fees that are reasonable and, as nearly as practicable, cover the costs of the services rendered. These fees cover the GIPSA administrative and supervisory costs for the performance of official testing services, including personnel compensation and benefits, travel, rent, communication, utilities, contractual services, supplies, and equipment.

Accordingly, GIPSA is revising the fees for processed commodity analytical services performed under the AMA in 7 CFR 868.90, paragraph (d), Table 2—Fees for Laboratory Test Services.

List of Subjects in 7 CFR Part 868

Administrative practice and procedure, Agricultural commodities.

For reasons set out in the preamble, 7 CFR Part 868 is amended as follows:

PART 868—GENERAL REGULATIONS AND STANDARDS FOR CERTAIN AGRICULTURAL COMMODITIES

1. The authority citation for part 868 continues to read as follows:

Authority: Secs. 202-208, 60 Stat. 1087, as amended (7 U.S.C. 1621, et. seq.)

2. Section 868.90, paragraph (d) is revised to read as follows:

868.90 Fees for certain Federal inspection services.

* * * * *

(d) Laboratory tests referenced in table 2 of this section will be charged at the applicable laboratory fee.

Table 2.—Fees for Laboratory Test Services ¹
Laboratory tests | Fees
(1) Aflatoxin (Quantitative—HPLC) | $182.00
(2) Aflatoxin (Quantitative—Test Kit) | 87.00
(3) Aflatoxin (Qualitative—Test Kit) | 47.00
(4) Appearance and odor | 7.00
(5) Ash | 17.00
(6) Brix | 16.00
(7) Calcium | 27.00
(8) Carotenoid Color | 27.00
(9) Cold test (oil) | 20.00
(10) Color test (syrups) | 13.00
(11) Cooking tests (pasta) | 13.00
(12) Crude fat | 20.00
(13) Crude fiber | 27.00
(14) Falling number | 24.00
(15) Free fatty acid | 24.00
(16) Insoluble impurities (oils and shortenings) | 9.00
(17) Iron enrichment | 30.00
(18) Lovibond color | 20.00
(19) Moisture | 13.00
(20) Moisture and volatile matter | 17.00
(21) Oxidative stability index (OSI) | 54.00
(22) Peroxide Value | 27.00
(23) Popping ratio | 38.00
(24) Protein | 16.00
(25) Sanitation (light filth) | 47.00
(26) Sieve test | 11.00
(27) Smoke Point | 43.00
(28) Solid fat index | 168.00
(29) Visual exam | 22.00
(30) Vomitoxin (Qualitative—Test Kit) | 61.00
(31) Vomitoxin (Quantitative—Test Kit) | 81.00
(32) Other laboratory analytical services (per hour per service representative) | 67.00
¹ When laboratory tests/services are provided for GIPSA by a private laboratory, the applicant will be assessed a fee, which, as nearly as practicable, covers the costs to GIPSA for the service provided.

Donna Reifschneider,
Administrator, Grain Inspection, Packers and Stockyards Administration.

[FR Doc. 04-569 Filed 1-12-04; 8:45 am]

BILLING CODE 3410-EN-P